DEPARTMENT OF TRANSPORTATION

Federal Aviation Administration

14 CFR Part 71

[Docket No. FAA-2018-0219; Airspace Docket No. 17-AGL-23]

RIN 2120-AA66

Amendment of Air Traffic Service (ATS) Routes in the Vicinity of Mattoon and Charleston, IL

AGENCY: Federal Aviation Administration (FAA), DOT.

ACTION: Final rule, delay of effective date.

SUMMARY: This action changes the effective date of a final rule published in the Federal Register on September 7, 2018, amending VHF Omnidirectional Range (VOR) Federal airways V-72 and V-429 in the vicinity of Mattoon and Charleston, IL. The FAA is delaying the effective date to coincide with the expected completion and flight check of enroute and terminal procedures associated with the planned decommissioning of the Mattoon, IL, VOR.

DATES: The effective date of the final rule published on September 7, 2018 (83 FR 45337) is delayed from November 8, 2018 to January 3, 2019. The Director of the Federal Register approved this incorporation by reference action under Title 1 Code of Federal Regulations part 51, subject to the annual revision of FAA Order 7400.11 and publication of conforming amendments.

FOR FURTHER INFORMATION CONTACT: Colby Abbott, Airspace Policy Group, Office of Airspace Services, Federal Aviation Administration, 800 Independence Avenue SW, Washington, DC 20591; telephone: (202) 267-8783.

SUPPLEMENTARY INFORMATION:

Background

The FAA published a final rule in the Federal Register for Docket No. FAA-2018-0219 (83 FR 45337, September 7, 2018), amending VOR Federal airways V-72 and V-429 in the vicinity of Mattoon and Charleston, IL. The effective date for that final rule is November 8, 2018. The FAA expects to complete and flight check the enroute and terminal procedures associated with the planned decommissioning of the Mattoon, IL, VOR by January 3, 2018; therefore the rule amending V-72 and V-429 is delayed to coincide with that date.

VOR Federal airways are published in paragraph 6010(a) of FAA Order 7400.11C dated August 13, 2018, and effective September 15, 2018, which is incorporated by reference in 14 CFR 71.1. The VOR Federal airways listed in this document will be subsequently published in the Order.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.”

Delay of Effective Date

Accordingly, pursuant to the authority delegated to me, the effective date of the final rule, Airspace Docket 17-AGL-23, as published in the Federal Register on September 7, 2018 (83 FR 45337), FR Doc. 2018-19347, is hereby delayed from November 8, 2018 to January 3, 2019.

Authority: 49 U.S.C. 106(f), 106(g); 40103, 40113, 40120; E.O. 10854, 24 FR 9565, 3 CFR, 1959-1963 Comp., P. 389.

Issued in Washington, DC, on October 24, 2018.
Rodger A. Dean Jr.,
Manager, Airspace Policy Group.

[FR Doc. 2018-23563 Filed 10-29-18; 8:45 am]

BILLING CODE 4910-13-P